DEPARTMENT OF TRANSPORTATION

Federal Aviation Administration

14 CFR Part 71

[Docket No. FAA-2011-0376; Airspace Docket No. 10-AEA-11]

RIN 2120-AA66

Proposed Amendment and Establishment of Air Traffic Service Routes; Northeast United States

AGENCY: Federal Aviation Administration (FAA), DOT.

ACTION: Notice of proposed rulemaking (NPRM).

SUMMARY: This action proposes to amend five Air Traffic Service (ATS) routes and establish four new ATS routes. The existing routes that would be amended are Q-42, J-60, V-16, V-229 and V-449. The proposed new routes are Q-62, Q-406, Q-448 and Q-480. The FAA is proposing this action to increase National Airspace System (NAS) efficiency, enhance safety and reduce delays within the New York Metropolitan area airspace.

DATES: Comments must be received on or before July 1, 2011.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2011-0376 and Airspace Docket No. 10-AEA-11 at the beginning of your comments. You may also submit comments through the Internet at http://www.regulations.gov.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0376 and Airspace Docket No. 10-AEA-11) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2011-0376 and Airspace Docket No.10-AEA-11.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the office of the Eastern Service Center, Operations Support Group, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The New York/New Jersey/Philadelphia Metropolitan Area is served by four major airports: Newark Liberty International, John F. Kennedy International, La Guardia, and Philadelphia International, as well as numerous smaller airports generating significant air traffic operations. The close proximity of the airports, combined with high air traffic volume and a complex airspace structure, contribute to less efficient system operations and air traffic delays that can affect airports across the United States. The FAA has been working on various initiatives to increase the efficiency and reliability of the airspace structure in order to maintain safety, respond to increasing aviation operations and mitigate mounting air traffic delays. Key elements of these efforts include improving user access to the NAS, expediting arrivals and departures, and providing more flexible routing options. Other benefits include reduced ATC system complexity, balanced air traffic controller workload, reduced voice communications requirements and reduced aircraft fuel consumption. This notice proposes a number of ATS route changes to help address the above issues.

The Proposal

The FAA is proposing an amendment to Title 14, Code of Federal Regulations (14 CFR) part 71 to amend jet route J-60, area navigation (RNAV) route Q-42, and VOR Federal airways V-16, V-229 and V-449. In addition, the FAA is proposing to establish four new RNAV routes designated as Q-62, Q-406, Q-448 and Q-480.

The proposed changes would facilitate the rerouting of westbound air traffic departing the New York metropolitan area and would also better sequence this departing traffic with en route overflight traffic. The current traffic flows would be split with new routes and navigation fixes added to reduce delays within the New York terminal airspace. The proposed new and revised ATS routes would mostly be used for departures but are also designed to more efficiently accommodate aircraft landing within the Potomac Terminal Radar Approach Control (TRACON) airspace. Potomac TRACON airspace includes, but is not limited to, Washington Dulles International Airport, Ronald Reagan Washington National Airport, Baltimore/Washington International Thurgood Marshall Airport, and their satellite airports. The proposed route changes would also help segregate the Potomac TRACON arrivals from the high altitude routes extending from the Boston Air Route Traffic Control Center (ARTCC) and New York ARTCC areas of responsibility.

This action proposes to modify the following existing routes: J-60, Q-42, V-16, V-229 and V-449. J-60 would be realigned at a point northwest of the East Texas, PA, VHF Omnidirectional Range/Distance Measuring Equipment (VOR/DME), by inserting a dogleg to the north of course, then bypassing the East Texas VOR/DME, and extending through a new westgate departure fix, NEWEL, to be added in the vicinity of the ELIOT fix. J-60 would then resume course to the Sparta, NJ, VORTAC. This realignment would help reduce congestion and converging en route aircraft flows and mitigate a choke point over the existing ELIOT departure fix.

RNAV route Q-42 would be amended by deleting the current segments between the BRNAN, PA, waypoint (WP) and ELIOT, PA, WP and replacing them with segments extending from BRNAN WP to new WPs HOTEE, PA; BTRIX, PA; SPOTZ, PA, and terminating at a new waypoint ZIMMZ, NJ. This change would also help reduce converging flows and reduce congestion.

VOR Federal airways V-16 and V-229 would be amended by inserting a dogleg north of their present courses by following the Kennedy VOR/DME 052° (magnetic) radial northeast of Kennedy VOR/DME. V-16 would then turn east bound, bypassing the Deer Park VOR/DME, then proceeding to the Calverton VOR/DME and resuming its current course. V-229 would also be modified along the Kennedy VOR/DME 052° radial, then turning eastbound to re-intercept its current course toward the Bridgeport, CT, VOR/DME. The V-16 and V-229 changes are intended to free up airspace to accommodate a climb corridor for John F. Kennedy International Airport departures.

V-449 currently extends between the Lake Henry, PA, VORTAC and the Albany, NY, VORTAC. This route would be lengthened westward by adding a new segment that extends between the Selinsgrove, PA, VORTAC and the Lake Henry VORTAC via the Milton, PA, VORTAC. This change would facilitate routing for arrivals into La Guardia Airport.

Four new RNAV routes are being proposed and would be designated as Q-62, Q-406, Q-448 and Q-480. Q-62 would enhance westward flows, reduce congestion and provide flexibility for aircraft entering the Cleveland ARTCC area and routings toward Chicago.

Q-406, Q-448 and Q-480, along with the amended Q-42, would reduce current converging en route flows that result from dependency on ground-based navigation aids. The new Q-route segments would permit some alignment with the, to be established, New York departure fixes NEWEL, CANDR and ZIMMZ. These new fixes would be used for departures from the New York metropolitan area airports to transition and merge aircraft from the terminal structure into the high altitude en route structure and vice versa. In addition, the new routes would relieve congestion by providing alternate routings for aircraft landing at airports outside the New York Metropolitan area.

For the full descriptions of these proposed route changes, see The Proposed Amendment section, below. Radials in the VOR Federal airway descriptions below are stated in True degrees, except for the proposed amended airway segments, which include both True and Magnetic values. In a final rule, only True degrees would be stated.

Jet routes are published in paragraph 2004, high altitude RNAV routes are published in paragraph 2006, and VOR Federal airways are published in paragraph 6010, respectively, of FAA Order 7400.9U dated August 18, 2010, and effective September 15, 2010, which is incorporated by reference in 14 CFR 71.1. The jet routes, high altitude RNAV routes and VOR Federal airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to preserve the safe and efficient flow of air traffic in the northeast United States.

Environmental Review

This proposed action qualifies for a categorical exclusion in accordance with FAA Order 1050.1E, Environmental Impacts: Policies and Procedures, Paragraph 311a. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, Dated August 18, 2010 and effective September 15, 2010, is amended as follows:

Paragraph 2004 Jet Routes.

* * * * *

J-60 [Amended]

From Los Angeles, CA; via Paradise, CA; Hector, CA; Boulder City, NV; Bryce Canyon, UT; Hanksville, UT; Red Table, CO; Mile High, CO; Hayes Center, NE; Lincoln, NE; Iowa City, IA; Joliet, IL; Goshen, IN; DRYER, OH; Philipsburg, PA; INT Philipsburg 100° (110° M) and Ravine, PA 071° (082° M) radials; INT Sparta, NJ, 253° (264° M) and Broadway, NJ, 295° (306° M) radials; to Sparta, NJ.

* * * * *

Paragraph 2006 United States Area Navigation Routes.

* * * * *

Q42 Kirksville, MO (IRK) to ZIMMZ, NJ [Amended]
Kirksville, MO (IRK) | VORTAC | (Lat. 40°08′06″ N., long. 92°35′30″ W.)
STRUK, IL | WP | (Lat. 40°14′04″ N., long. 90°18′22″ W.)
Danville, IL (DNV) | VORTAC | (Lat. 40°17′38″ N., long. 87°33′26″ W.)
Muncie, IN (MIE) | VOR/DME | (Lat. 40°14′14″ N., long. 85°23′39″ W.)
HIDON, OH | WP | (Lat. 40°10′00″ N., long. 81°37′27″ W.)
BUBAA, OH | WP | (Lat. 40°10′27″ N., long. 80°58′17″ W.)
PSYKO, PA | WP | (Lat. 40°08′37″ N., long. 79°09′13″ W.)
BRNAN, PA | WP | (Lat. 40°08′07″ N., long. 77°50′07″ W.)
HOTEE, PA | WP | (Lat. 40°20′36″ N., long. 76°29′37″ W.)
BTRIX, PA | WP | (Lat. 40°36′06″ N., long. 75°49′11″ W.)
SPOTZ, PA | WP | (Lat. 40°45′55″ N., long. 75°22′59″ W.)
ZIMMZ, NJ | WP | (Lat. 40°48′11″ N., long. 75°07′25″ W.)
* * * * * * *
Q62 NOLNN, OH to SARAA, PA [New]
NOLNN, OH | WP | (Lat. 41°14′04″ N., long. 84°38′12″ W.)
WEEVR, OH | WP | (Lat. 41°13′21″ N., long. 84°13′04″ W.)
PSKUR, OH | WP | (Lat. 41°09′16″ N., long. 82°42′57″ W.)
FAALS, OH | WP | (Lat. 41°02′51″ N., long. 80°52′40″ W.)
ALEEE, OH | WP | (Lat. 41°00′28″ N., long. 80°31′54″ W.)
QUARM, PA | WP | (Lat. 40°49′45″ N., long. 79°04′39″ W.)
BURNI, PA | FIX | (Lat. 40°39′25″ N., long. 77°48′14″ W.)
MCMAN, PA | FIX | (Lat. 40°38′16″ N., long. 77°34′14″ W.)
VALLO, PA | FIX | (Lat. 40°37′37″ N., long. 77°26′18″ W.)
Ravine, PA | (RAV) VORTAC | (Lat. 40°33′12″ N., long. 76°35′58″ W.)
SUZIE, PA | FIX | (Lat. 40°27′12″ N., long. 75°58′22″ W.)
SARAA, PA | FIX | (Lat. 40°26′22″ N., long. 75°53′16″ W.)
Q406 Broadway, NJ (BWZ) to Barnes, MA (BAF) [New]
Broadway, NJ (BWZ) | VOR/DME | (Lat. 40°47′54″ N., long. 74°49′19″ W.)
JEETR, NY | WP | (Lat. 41°08′30″ N., long. 74°05′46″ W.)
BASYE, NY | FIX | (Lat. 41°20′37″ N., long. 73°47′55″ W.)
TRIBS, CT | WP | (Lat. 41°39′29″ N., long. 73°19′03″ W.)
BIGGO, CT | FIX. | (Lat. 41°57′21″ N., long. 73°04′05″ W.)
Barnes, MA (BAF) | VORTAC | (Lat. 42°09′43″ N., long. 72°42′58″ W.)
Q448 Pottstown, PA (PTW) to Barnes, MA (BAF) [New]
Pottstown, PA (PTW) | VORTAC | (Lat. 40°13′20″ N., long. 75°33′37″ W.)
LANNA, NJ | FIX | (Lat. 40°33′35″ N., long. 75°01′40″ W.)
JEETR, NY | WP | (Lat. 41°08′30″ N., long. 74°05′46″ W.)
BASYE, NY | FIX | (Lat. 41°20′37″ N., long. 73°47′55″ W.)
TRIBS, CT | WP | (Lat. 41°39′29″ N., long. 73°19′03″ W.)
BIGGO, CT | FIX. | (Lat. 41°57′21″ N., long. 73°04′05″ W.)
Barnes, MA (BAF) | VORTAC | (Lat. 42°09′43″ N., long. 72°42′58″ W.)
Q480 ZANDR, OH to Kennebunk, ME (ENE) [New]
ZANDR, OH | FIX | (Lat. 40°00′19″ N., long. 81°31′58″ W.)
Bellaire, OH (AIR) | VOR/DME | (Lat. 40°01′01″ N., long. 80°49′02″ W.)
LEJOY, PA | FIX | (Lat. 40°00′12″ N., long. 79°24′54″ W.)
VINSE, PA | FIX | (Lat. 39°58′16″ N., long. 77°57′21″ W.)
BEETS, PA | WP | (Lat. 39°57′20″ N., long. 77°26′59″ W.)
HOTEE, PA | WP | (Lat. 40°20′36″ N., long. 76°29′37″ W.)
BTRIX, PA | WP | (Lat. 40°36′06″ N., long. 75°49′11″ W.)
SPOTZ, PA | WP | (Lat. 40°45′55″ N., long. 75°22′59″ W.)
CANDR, NJ | WP | (Lat. 40°58′02″ N., long. 74°57′30″ W.)
JEFFF, NJ | WP | (Lat. 41°14′46″ N., long. 74°27′43″ W.)
Kingston, NY (IGN) | VOR/DME | (Lat. 41°39′56″ N., long. 73°49′20″ W.)
LESWL, CT | WP | (Lat. 41°53′31″ N., long. 73°19′20″ W.)
Barnes, MA (BAF) | VORTAC | (Lat. 42°09′43″ N., long. 72°42′58″ W.)
Kennebunk, ME (ENE) | VORTAC | (Lat. 43°25′32″ N., long. 70°36′49″ W.)
* * * * * * *

Paragraph 6010 VOR Federal Airways.

V-16 [Amended]

From Los Angeles, CA; Paradise, CA; Palm Springs, CA; Blythe, CA; Buckeye, AZ; Phoenix, AZ; INT Phoenix 155° and Stanfield, AZ, 105° radials; Tucson, AZ; Cochise, AZ; Columbus, NM; El Paso, TX; Salt Flat, TX; Wink, TX; INT Wink 066° and Big Spring, TX, 260° radials; Big Spring; Abilene, TX; Bowie, TX; Bonham, TX; Paris, TX; Texarkana, AR; Pine Bluff, AR; Marvell, AR; Holly Springs, MS; Jacks Creek, TN; Shelbyville, TN; Hinch Mountain, TN; Volunteer, TN; Holston Mountain, TN; Pulaski, VA; Roanoke, VA; Lynchburg, VA; Flat Rock, VA; Richmond, VA; INT Richmond 039° and Patuxent, MD, 228° radials; Patuxent; Smyrna, DE; Cedar Lake, NJ; Coyle, NJ; INT Coyle 036° and Kennedy, NY, 209° radials; Kennedy; INT Kennedy 040° (052° M) and Calverton, NY, 261° (274°M) radials; Calverton; Norwich, CT; Boston, MA. The airspace within Mexico and the airspace below 2,000 feet MSL outside the United States is excluded. The airspace within Restricted Areas R-5002A, R-5002C, and R-5002D is excluded during their times of use. The airspace within Restricted Areas R-4005 and R-4006 is excluded.

V-229 [Amended]

From Patuxent, MD; INT Patuxent 036° and Atlantic City, NJ, 236° radials; Atlantic City; INT Atlantic City 055° and Colts Neck, NJ, 181° radials; INT Colts Neck 181° and Kennedy, NY, 209° radials; Kennedy; INT Kennedy 040° (052° M) and Calverton, NY, 261° (274° M) radials; INT Calverton 261° (274°) and Kennedy 053° (065° M) radials; INT Kennedy 053° and Bridgeport, CT, 200° radials; Bridgeport; Hartford, CT; INT Hartford 040° and Gardner, MA, 195° radials; Gardner; Keene, NH; INT Keene 336° and Burlington, VT, 160° radials; to Burlington. The airspace within R-5002B is excluded during times of use. The airspace below 2,000 feet MSL outside the United States is excluded.

V-449 [Amended]

From Selinsgrove, PA; Milton, PA; INT Milton 064° (073° M) and Williamsport, PA 109° (118° M) radials; Lake Henry, PA; DeLancey, NY; Albany, NY.

Issued in Washington, DC, on May 10, 2011.
Gary A. Norek,
Acting Manager, Airspace, Regulations & ATC Procedures Group.

[FR Doc. 2011-12002 Filed 5-16-11; 8:45 am]

BILLING CODE 4910-13-P